SMALL BUSINESS ADMINISTRATION

[Disaster Declaration #16936 and #16937; ALABAMA Disaster Number AL-00120]

Presidential Declaration of a Major Disaster for the State of ALABAMA

AGENCY: U.S. Small Business Administration.

ACTION: Notice.

SUMMARY: This is a Notice of the Presidential declaration of a major disaster for the State of ALABAMA (FEMA—4596—DR), dated 04/26/2021. Incident: Severe Storm, Straight-line Winds, and Tornadoes. Incident Period: 03/25/2021 through 03/26/2021.

DATES: Issued on 04/26/2021.

Physical Loan Application Deadline Date: 06/25/2021.

Economic Injury (EIDL) Loan Application Deadline Date: 01/26/2022.

ADDRESSES: Submit completed loan applications to:

U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the President's major disaster declaration on 04/26/2021, applications for disaster loans may be filed at the address listed above or other locally announced locations.

The following areas have been determined to be adversely affected by the disaster:

Primary Counties (Physical Damage and Economic Injury Loans): Bibb, Calhoun, Clay, Hale, Jefferson, Perry, Randolph, Shelby.

Contiguous Counties (Economic Injury Loans Only):

Alabama: Blount, Chambers, Cherokee, Chilton, Cleburne, Coosa, Dallas, Etowah, Greene, Marengo, Saint Clair, Talladega, Tallapoosa, Tuscaloosa, Walker.

Georgia: Carroll, Heard, Troup.

The Interest Rates are:

| Percent
For Physical Damage:
Homeowners with Credit Available Elsewhere | 2.500
Homeowners without Credit Available Elsewhere | 1.250
Businesses with Credit Available Elsewhere | 6.000
Businesses without Credit Available Elsewhere | 3.000
Non-Profit Organizations with Credit Available Elsewhere | 2.000
Non-Profit Organizations without Credit Available Elsewhere | 2.000
For Economic Injury:
Businesses & Small Agricultural Cooperatives without Credit Available Elsewhere | 3.000
Non-Profit Organizations without Credit Available Elsewhere | 2.000

The number assigned to this disaster for physical damage is 16936 C and for economic injury is 16937 0.

(Catalog of Federal Domestic Assistance Number 59008)

James Rivera,
Associate Administrator for Disaster Assistance.

[FR Doc. 2021-09179 Filed 4-30-21; 8:45 am]

BILLING CODE 8026-03-P